GENERAL SERVICES ADMINISTRATION

[OMB Control No. 3090-0163; Docket No. 2023-0001; Sequence No. 5]

Information Collection; General Services Administration Acquisition Regulation; Contract Solicitation Information

AGENCY: Office of Acquisition Policy, General Services Administration (GSA).

ACTION: Notice of request for comments regarding an extension to an existing OMB information collection.

SUMMARY: Under the provisions of the Paperwork Reduction Act, the Regulatory Secretariat Division will be submitting to the Office of Management and Budget (OMB) a request to review and approve an extension of a previously approved information collection regarding GSA solicitations issued for various supplies and services.

DATES: Submit comments on or before: January 22, 2024.

ADDRESSES: Submit comments identified by Information Collection 3090-0163, Contract Solicitation Information, via http://www.regulations.gov. Submit comments via the Federal eRulemaking portal by searching the OMB control number 3090-0163. Select the link “Comment Now” that corresponds with “Information Collection 3090-0163, Contract Solicitation Information”. Follow the instructions provided on the screen. Please include your name, company name (if any), and “Information Collection 3090-0163, Contract Solicitation Information,” on your attached document.

Instructions: Please submit comments only and cite Information Collection 3090-0163, Contract Solicitation Information, in all correspondence related to this collection. Comments received generally will be posted without change to regulations.gov, including any personal and/or business confidential information provided. To confirm receipt of your comment(s), please check regulations.gov, approximately two-to-three days after submission to verify posting.

FOR FURTHER INFORMATION CONTACT: Mr. Clarence Harrison, Procurement Analyst, at GSARPolicy@gsa.gov or 202-227-7051.

SUPPLEMENTARY INFORMATION:

A. Purpose

GSA requires organizations desiring to do business with GSA for various supplies and services to provide procurement-related information through solicitations issued in accordance with the Federal Acquisition Regulation (FAR) Part 12, 14, 15 and 16 procedures. Using solicitation methods such as Requests for Proposals (RFP), Requests for Information (RFI), and Broad Agency Announcements (BAA), GSA requests information from prospective offerors such as pricing information, delivery schedule compliance, and evidence that the offeror has the resources (both human and financial) to accomplish requirements. Much of the solicitation information collected is covered by FAR clauses and the separate information collection approvals associated with them. Other GSA solicitation requirements call for more detailed or technical information to be provided, such as project management or sustainability plans, and drive the need for this information collection.

B. Annual Reporting Burden

Respondents: 338,465.

Responses per Respondent: 1.

Total Responses: 338,465.

Hours per Response: 2.

Total Burden Hours: 676,930.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division, at GSARegSec@gsa.gov. Please cite OMB Control No. 3090-0163, Contract Solicitation Information, in all correspondence.

Jeffrey A. Koses,
Senior Procurement Executive, Office of Acquisition Policy, Office of Government-wide Policy.

[FR Doc. 2023-25693 Filed 11-20-23; 8:45 am]

BILLING CODE P